FEDERAL COMMUNICATIONS COMMISSION

47 CFR Part 73

[DA 02-3382, MB Docket No. 02-220, RM-10518]

Digital Television Broadcast Service; Christiansted, VI

AGENCY: Federal Communications Commission.

ACTION: Final rule.

SUMMARY: The Commission, at the request of Virgin Blue, Inc., substitutes DTV channel 23 for DTV channel 5 at Christiansted, Virgin Islands. See 67 FR 5292, August 14, 2002. DTV channel 23 can be allotted to Christiansted in compliance with the principle community coverage requirements of section 73.625(a) at reference coordinates 17-44-40 N. and 64-43-40 W. with a power of 0.85, HAAT of 130 meters and with a DTV service population of 48 thousand. With this action, this proceeding is terminated.

DATES: Effective January 27, 2003.

FOR FURTHER INFORMATION CONTACT: Pam Blumenthal, Media Bureau, (202) 418-1600.

SUPPLEMENTARY INFORMATION: This is a synopsis of the Commission's Report and Order, MB Docket No. 02-220, adopted December 6, 2002, and released December 13, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone (202) 863-2893, facsimile (202) 863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Virgin Islands, is amended by removing DTV channel 5 and adding DTV channel 23 at Christiansted.

Federal Communications Commission.
Barbara A. Kreisman,
Chief, Video Division, Media Bureau.

[FR Doc. 02-32287 Filed 12-20-02; 8:45 am]

BILLING CODE 6712-01-P